DEPARTMENT OF LABOR

Office of Workers' Compensation Programs

[OMB Control No. 1240-0048]

Division of Coal Mine Workers' Compensation; Extension of Information Collection; Request for Notice of Issuance of Insurance Policy (CM-921)

AGENCY: Division of Coal Mine Workers' Compensation; Office of Workers' Compensation Programs, Department of Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, OWCP/DCMWC is soliciting comments on the information collection for Notice of Issuance of Insurance Policy.

DATES: Consideration will be given to all written comments received on or before September 11, 2023.

ADDRESSES: You may submit comment as follows. Please note that late, untimely filed comments will not be considered.

Written/Paper Submissions: Submit written/paper submissions in the following way:

• Mail/Hand Delivery: Mail or visit DOL-OWCP/DCMWC, Office of Workers' Compensation Programs, Division of Federal Employees' Longshore and Harbor Workers' Compensation, U.S. Department of Labor, 200 Constitution Ave. NW, Room C-3520, Washington, DC 20210.

• OWCP/DCMWC will post your comment as well as any attachments, except for information submitted and marked as confidential, in the docket at https://www.regulations.gov.

FOR FURTHER INFORMATION CONTACT: Anjanette Suggs, Office of Workers' Compensation Programs by telephone at 202-354-9660 or by email at suggs.anjanette@dol.gov.

SUPPLEMENTARY INFORMATION:

I. Background

The Black Lung Benefits Act (the Act), 30 U.S.C. 901-944, requires coal mine operators to be insured (either by qualifying as a self-insurer or obtaining commercial insurance) for liabilities arising from the Act; failure to do so may result in civil money penalties. 30 U.S.C. 933. Accordingly, 20 CFR Part V, Subpart C, 726.208-.213 requires insurance carriers to report to the Division of Coal Mine Workers' Compensation (DCMWC) each policy and endorsement issued, cancelled, or renewed with respect to operators in such a manner and on such form as DCMWC may require. These regulations also require carriers to file a separate report for each operator it insures. Carriers use Form CM-921, Notice of Issuance of Insurance Policy, to report issuance of insurance policies to operators. This information collection is currently approved for use through November 30, 2019. 30 U.S.C. 901 and 20 CFR 725.535 authorizes this information collection.

II. Desired Focus of Comments

OWCP/DCMWC is soliciting comments concerning the proposed information collection related to the Notice of Issuance of Policy. OWCP/DCMWC is particularly interested in comments that:

• Evaluate whether the proposed collection of information is necessary for the proper performance of the functions of the agency, including whether the information will have practical utility;

• Evaluate the accuracy of OWCP/DCMWC's estimate of the burden of the proposed collection of information, including the validity of the methodology and assumptions used in the estimate;

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and at DOL-OWCP/DCMWC located at 200 Constitution Ave. NW, Room #-####, Washington, DC 20210. Questions about the information collection requirements may be directed to the person listed in the FOR FURTHER INFORMATION section of this notice.

III. Current Actions

This information collection request concerns Notice of Issuance of Policy. OWCP/DCMWC has updated the data with respect to the number of respondents, responses, burden hours, and burden costs supporting this information collection request from the previous information collection request.

Type of Review: Extension, without change, of a currently approved collection.

Agency: Office of Workers' Compensation Programs, Division of Coal Mine Workers' Compensation (OWCP/DCMWC).

Type of Review: Extension.

Title of Collection: Notice of Issuance of Insurance Policy.

Form: Notice of Issuance of Insurance Policy, CM-921.

OMB Control Number: 1240-0048.

Affected Public: Federal government, State, Local, or Tribal Government.

Estimated Number of Respondents: 3,465.

Frequency: Annually.

Total Estimated Annual Responses: 3,465.

Estimated Average Time per Response: 1-10 minutes.

Estimated Total Annual Burden Hours: 61 hours.

Total Estimated Annual Other Cost Burden: $11.00.

Annual Respondent or Recordkeeper Cost: $11.00.

Comments submitted in response to this notice will be summarized in the request for Office of Management and Budget approval for the proposed information collection request; they will become a matter of public record and will be available at https://www.reginfo.gov.

Authority: 30 U.S.C. 901 and 20 CFR 725.535.

Anjanette Suggs,
Agency Clearance Officer.

[FR Doc. 2023-14562 Filed 7-10-23; 8:45 am]

BILLING CODE 4510-CK-P